ENVIRONMENTAL PROTECTION AGENCY

40 CFR Part 300

[EPA-HQ-SFUND-1992-0007; FRL-9997-22-Region 7]

National Oil and Hazardous Substances Pollution Contingency Plan; National Priorities List: Partial Deletion of the Cleburn Street Well Superfund Site

AGENCY: Environmental Protection Agency (EPA).

ACTION: Proposed rule; notice of intent.

SUMMARY: The Environmental Protection Agency (EPA) Region 7 is issuing a Notice of Intent to Delete Operable Unit (OU)1 and OU4 of the Cleburn Street Well Superfund Site (Site) located in Grand Island, Nebraska from the National Priorities List (NPL) and requests public comments on this proposed action. The NPL, promulgated pursuant to section 105 of the Comprehensive Environmental Response, Compensation, and Liability Act (CERCLA) of 1980, as amended, is an appendix of the National Oil and Hazardous Substances Pollution Contingency Plan (NCP). The EPA and the State of Nebraska through the Nebraska Department of Environmental Quality (NDEQ), have determined that all appropriate response actions at these identified media and/or parcels under CERCLA, other than operations and maintenance, have been completed. However, this deletion does not preclude future actions under Superfund.

This partial deletion pertains to OU1—Contaminated sub-surface soil at the former One-Hour Martinizing and OU4—Soil and Groundwater at Ideal Cleaners. The remaining Operable Units: OU2, OU3, and OU5 will remain on the NPL and are not being considered for deletion as part of this action.

DATES: Comments must be received by August 28, 2019.

ADDRESSES: Submit your comments, identified by Docket ID no. EPA-HQ-SFUND-1992-0007, by mail to David Wennerstrom or Pam Houston, Environmental Protection Agency, Region 7, 11201 Renner Boulevard, Lenexa, KS 66219. Comments may also be submitted electronically or through hand delivery/courier by following the detailed instructions in the ADDRESSES section of the direct final rule located in the rules section of this Federal Register.

FOR FURTHER INFORMATION CONTACT: David Wennerstrom, Remedial Project Manager, Environmental Protection Agency, Region 7,11201 Renner Boulevard, Lenexa, KS 66219, (913) 551-7996, email: wennerstrom.david@epa.gov.

SUPPLEMENTARY INFORMATION: In the “Rules and Regulations” section of today's Federal Register, we are publishing a direct final Notice of Partial Deletion for Operable Unit (OU)1 and OU4 of the Cleburn Street Well Superfund Site without prior Notice of Intent for Partial Deletion because EPA views this as a noncontroversial revision and anticipates no adverse comment. We have explained our reasons for this partial deletion in the preamble to the direct final Notice of Partial Deletion, and those reasons are incorporated herein. If we receive no adverse comment(s) on this partial deletion action, we will not take further action on this Notice of Intent for Partial Deletion. If we receive adverse comment(s), we will withdraw the direct final Notice of Partial Deletion and it will not take effect. We will, as appropriate, address all public comments in a subsequent final Notice of Partial Deletion based on this Notice of Intent for Partial Deletion. We will not institute a second comment period on this Notice of Intent for Partial Deletion. Any parties interested in commenting must do so at this time.

For additional information, see the direct final Notice of Partial Deletion which is located in the Rules section of this Federal Register.

List of Subjects in 40 CFR Part 300

Environmental protection, Air pollution control, Chemicals, Hazardous substances, Hazardous waste, Intergovernmental relations, Penalties, Reporting and recordkeeping requirements, Superfund, Water pollution control, Water supply.

Authority: 33 U.S.C. 1321(d); 42 U.S.C. 9601-9657; E.O. 13626, 77 FR 56749, 3 CFR, 2013 Comp., p. 306; E.O. 12777, 56 FR 54757, 3 CFR, 1991 Comp., p. 351; E.O. 12580, 52 FR 2923, 3 CFR, 1987 Comp., p. 193.

Dated: July 17, 2019.
David Cozad,
Acting Regional Administrator, Region 7.

[FR Doc. 2019-15857 Filed 7-26-19; 8:45 am]

BILLING CODE 6560-50-P